DEPARTMENT OF HEALTH AND HUMAN SERVICES

National Institutes of Health

National Institute of Allergy and Infectious Diseases; Amended Notice of Meeting

Notice is hereby given of a change in the meeting of the Microbiology and Infectious Diseases Research Committee, June 04, 2020, 09:00 a.m. to June 05, 2020, 06:00 p.m., National Institute of Allergy and Infectious Diseases, National Institutes of Health, 5601 Fishers Lane, Room 3G51 (Teleconference) which was published in the Federal Register on April 03, 2020, 85 FR 19000.

This meeting notice is amended to change the meeting date from June 4-5, 2020 to July 28-30, 2020 at the National Institutes of Health, 5601 Fishers Lane, Room 3G51 (Teleconference). The meeting is closed to the public.

Dated: May 5, 2020.
Tyeshia M. Roberson,
Program Analyst, Office of Federal Advisory Committee Policy.

[FR Doc. 2020-09974 Filed 5-8-20; 8:45 am]

BILLING CODE 4140-01-P